EXPORT-IMPORT BANK

Sunshine Act Meetings; Notice of an Open Meeting of the Board of Directors of the Export-Import Bank of the United States

TIME AND DATE: Thursday, July 18, 2024 at 10:30 a.m.

PLACE: The meeting will be held via teleconference.

STATUS: The meeting will be open to public observation for Item Numbers 1 and 2.

MATTERS TO BE CONSIDERED:

1. Appointment of EXIM Advisory Committee for 2024-25

2. Appointment of EXIM Sub-Saharan Africa Advisory Committee for 2024-25

CONTACT PERSON FOR MORE INFORMATION: Deidre Hodge (202-509-4195). Members of the public who wish to attend the meeting via teleconference should register via using the link below: https://events.teams.microsoft.com/event/33697276-5305-4b36-a246-e8c8fa73e2f0@b953013c-c791-4d32-996f-518390854527 by noon Wednesday, July 17, 2024. Individuals will be directed to a Webinar registration page and provided call-in information.

Deidre E. Hodge,
Assistant Corporate Secretary.

[FR Doc. 2024-15699 Filed 7-12-24; 11:15 am]

BILLING CODE 6690-01-P